DEPARTMENT OF HEALTH AND HUMAN SERVICES

Centers for Disease Control and Prevention

[30DAY-12-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

1. A Pilot Study to Evaluate CDC's 1998 Guidelines for the Treatment of Sexually Transmitted Diseases Among Clinicians in Two Managed Care Organizations—The National Center for HIV, STD, and TB Prevention (NCHSTP) is proposing a pilot survey of 1,000 practitioners in two managed care plans to evaluate how CDC's most recent edition (1998) of the Sexually Transmitted Disease (STD) Treatment Guidelines influence practice. The pilot survey will be conducted in two large, mixed model managed care plans which are located in two different geographic regions of the U.S. The survey is expected to last from 3-6 months. The CDC periodically publishes national guidelines on the diagnosis and treatment of sexually transmitted diseases; however, little is known about the impact of the guidelines on clinical practice and treatment choices, the practical use of the guidelines, or utility to providers. Data gathered from this study will provide preliminary information about the extent to which providers are aware of the guidelines, their access to the guidelines, their use of the guidelines, and factors that enable or preclude use of the guidelines. The information will assist CDC in determining ways to improve practitioners' understanding and promote utilization of the guidelines; determine ways to make them more available for medical practitioners; and increase the use of the guidelines in appropriate medical practices. The total annual burden hours are 334.

Respondents | No. of respondents | No. of responses/respondent | Avg. burden/response (in hours)
Managed care physicians or advance practice Nurses | 1,000 | 1 | .334

Dated: January 14, 2000.
Nancy Cheal, Ph.D.,
Acting Associate Director for Policy, Planning and Evaluation, Centers for Disease Control and Prevention (CDC).

[FR Doc. 00-1452 Filed 1-20-00; 8:45 am]

BILLING CODE 4163-18-P